SECURITIES AND EXCHANGE COMMISSION

[Release No. 34-93329; File Nos. SR-MIAX-2021-29, SR-EMERALD-2021-22, SR-PEARL-2021-30]

Self-Regulatory Organizations; Miami International Securities Exchange, LLC, MIAX Emerald, LLC, and MIAX PEARL, LLC; Notice of Withdrawal of Proposed Rule Changes To Amend Fees for Purge Ports

October 14, 2021.

On July 1, 2021, Miami International Securities Exchange, LLC, MIAX Emerald, LLC, and MIAX PEARL, LLC (each an “Exchange”) each filed with the Securities and Exchange Commission (“Commission”) pursuant to Section 19(b)(1) of the Securities Exchange Act of 1934 (“Act”) ¹ and Rule 19b-4 thereunder,² a proposed rule change to increase fees for purge ports. Each proposed rule change was immediately effective upon filing with the Commission pursuant to Section 19(b)(3)(A) of the Act.³ The proposed rule changes were published for comment in the Federal Register on July 15, 2021.⁴ The Commission received comment on the proposals.⁵ On August 27, 2017, the Commission, pursuant to Section 19(b)(3)(C) of the Act,⁶ temporarily suspended the proposed rule changes and instituted proceedings to determine whether to approve or disapprove the proposed rule changes.⁷ Each Exchange withdrew its proposed rule change as of October 12, 2021 (SR-MIAX-2021-29, SR-EMERALD-2021-22, and SR-PEARL-2021-30).

¹ 15 U.S.C. 78s(b)(1).

² 17 CFR 240.19b-4.

³ 15 U.S.C. 78s(b)(3)(A). A proposed rule change may take effect upon filing with the Commission if it is designated by the exchange as “establishing or changing a due, fee, or other charge imposed by the self-regulatory organization on any person, whether or not the person is a member of the self-regulatory organization.” 15 U.S.C. 78s(b)(3)(A)(ii).

⁴ See Securities Exchange Act Release Nos. 92364 (July 9, 2021), 86 FR 37364 (July 15, 2021) (SR-MIAX-2021-29); 92360 (July 9, 2021), 86 FR 37373 (July 15, 2021) (SR-EMERALD-2021-22); 92363 (July 9, 2021), 86 FR 37376 (July 15, 2021) (SR-PEARL-2021-30).

⁵ Comment on the proposed rule changes can be found at: https://www.sec.gov/comments/sr-miax-2021-29/srmiax202129.htm; https://www.sec.gov/comments/sr-emerald-2021-22/sremerald202122.htm; https://www.sec.gov/comments/sr-pearl-2021-30/srpearl202130.htm.

⁶ 15 U.S.C. 78s(b)(3)(C).

⁷ See Securities Exchange Act Release No. 92792 (August 27, 2021), 86 FR 49384 (September 2, 2021).

⁸ 17 CFR 200.30-3(a)(12).

For the Commission, by the Division of Trading and Markets, pursuant to delegated authority.⁸
J. Matthew DeLesDernier,
Assistant Secretary.

[FR Doc. 2021-22796 Filed 10-19-21; 8:45 am]

BILLING CODE 8011-01-P